FEDERAL COMMUNICATIONS COMMISSION

Public Information Collection(s) Requirement Submitted to OMB for Emergency Review and Approval

February 16, 2000.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before March 27, 2000. If you anticipate that you will be submitting comments, but find it difficult to do so within the period of time allowed by this notice, you should advise the contacts listed below as soon as possible.

ADDRESSES: Direct all comments to Virginia Huth, Office of Management and Budget, Room 10236 NEOB, Washington, DC 20503, (202) 395-6929 or via internet at vhuth@omb.eop.gov, and Judy Boley, Federal Communications Commission, Room 1-C804, 445 12th Street, SW, Washington, DC 20554 or via internet to jboley@fcc.gov.

FOR FURTHER INFORMATION CONTACT: For additional information or copies of the information collections contact Judy Boley at 202-418-0214 or via internet at jboley@fcc.gov.

SUPPLEMENTARY INFORMATION: The Commission has requested emergency OMB review of this collection with an approval by February 24, 2000.

OMB Control Number: 3060-XXXX.

Type of Review: New Collection.

Title: Survey to Provide Information for the Agency's Sub-study of the Estimation of Utilization Rates/Probabilities of Obtaining Broadcast and Wireless Licenses Through Secondary Market Transactions.

Form No.: N/A.

Respondents: Individuals or households; business or other for-profit.

Number of Respondents: 4,948.

Estimated Time Per Response: 20 minutes (.33 hours).

Frequency of Response: One time reporting requirement.

Total Annual Burden: 369 hours.

Total Annual Cost: N/A.

Needs and Uses: The Commission requests emergency OMB review and approval by February 24, 2000 for a survey that will provide a basis for the FCC's investigation that seeks to provide an estimation of the likelihood of firms owned by minorities, women, non-minorities, and small firms obtaining broadcast and wireless licenses from private firms selling licenses in the secondary market.

The secondary market study is a sub-study or the second part of a two-part study regarding broadcast and wireless license acquisition, which is part of a comprehensive examination commenced by the FCC to identify and evaluate market entry barriers and other impediments to participation and attainment of broadcast and wireless licenses by small, women and minority-owned businesses.

Data collected in the survey may provide the foundation for FCC policies to promote competition and opportunities for small, minority and women-owned businesses. This information may be used by the FCC in considering future auction rules, broadcast license rules, the biennial review of broadcast rules, the allocation of low power radio licenses, and whether the FCC should implement a tax certificate and/or distress sales program.

Federal Communications Commission.
Magalie Roman Salas,
Secretary.

[FR Doc. 00-4281 Filed 2-23-00; 8:45 am]

BILLING CODE 6712-01-P